POSTAL SERVICE

39 CFR Part 111

[Docket No. 2019-08991]

Forms of Identification; Correction

AGENCY: Postal Service™.

ACTION: Final rule; correction.

SUMMARY: The Postal Service is correcting a final rule that appeared in the Federal Register on May 2, 2019. The document amended Mailing Standards of the United States Postal Service, Domestic Mail Manual (DMM®) for clarity and consistency in the standards regarding forms of identification.

DATES: Effective June 23, 2019.

FOR FURTHER INFORMATION CONTACT: Karen Key at (202) 268-7492, Catherine Knox at (202) 268-5636, or Garry Rodriguez at (202) 268-7281.

SUPPLEMENTARY INFORMATION: In FR Doc. 2019-08991 appearing on page 18731 in the Federal Register of Thursday, May 2, 2019, the following corrections are made:

Exhibit 10.3 [Corrected]

1. On page 18735, in the chart labeled Exhibit 10.3, column five, labeled “U.S. University,” is corrected to remove the check marks from the row labeled “Money Order” and the row labeled “Sure Money (DineroSeguro)” so that it appears as below:

Exhibit 10.3—Primary Forms of Acceptable Photo Identification for Products and Services [Corrected]
Products/Services | U.S. Gov't | U.S/Foreign passport | Matricula consular Mexico | NEXUS Canada | U.S. University | U.S. Corp.
Caller Service | ✓ | ✓ | ✓ | ✓ | ✓ | ✓
Certified Mail Services | ✓ | ✓ | ✓ | ✓ | ✓ |
Change-of-Address (COA) | ✓ | ✓ | ✓ | ✓ | ✓ |
Collect on Delivery (COD) | ✓ | ✓ | ✓ | ✓ | ✓ |
Commercial Mail Receiving Agency | ✓ | ✓ | ✓ | ✓ | ✓ |
Firm Holdout | ✓ | ✓ | ✓ | ✓ |  | ✓
Hold For Pickup | ✓ | ✓ | ✓ | ✓ | ✓ |
Hold Mail | ✓ | ✓ | ✓ | ✓ | ✓ |
Insured Mail Services | ✓ | ✓ | ✓ | ✓ | ✓ |
Money Order | ✓ | ✓ | ✓ | ✓ |  |
Parcel Return Service | ✓ | ✓ | ✓ | ✓ |  | ✓
PO Box | ✓ | ✓ | ✓ | ✓ | ✓ | ✓
Premium Forwarding Service | ✓ | ✓ | ✓ | ✓ |  |
Priority Mail Express | ✓ | ✓ | ✓ | ✓ | ✓ |
Registered Mail Services | ✓ | ✓ | ✓ | ✓ | ✓ |
Sure Money (DineroSeguro) | ✓ | ✓ | ✓ | ✓ |  |
USPS Signature Services | ✓ | ✓ | ✓ | ✓ | ✓ |

Dated: May 15, 2019.
Brittany M. Johnson,
Attorney, Federal Compliance.

[FR Doc. 2019-10430 Filed 5-17-19; 8:45 am]

BILLING CODE 7710-12-P